ENVIRONMENTAL PROTECTION AGENCY

[CERCLA-04-2015-3752; FRL-9931-52-Region 4]

Capitol City Plume Superfund Site Montgomery, Montgomery County, Alabama; Notice of settlement

AGENCY: Environmental Protection Agency (EPA).

ACTION: Notice of settlement.

SUMMARY: Under 122(h) of the Comprehensive Environmental Response, Compensation and Liability Act (CERCLA), the United States Environmental Protection Agency (EPA) has entered into a settlement with multiple parties concerning the Capitol City Plume Superfund Site located in Montgomery, Montgomery County, Alabama. The settlement addresses costs from a fund-lead Remedial Investigation performed by EPA at the Site. The Agency is deferring the Site to the State of Alabama for cleanup.

DATES: The Agency will consider public comments on the settlement until August 31, 2015. The Agency will consider all comments received and may modify or withdraw its consent to the settlement if comments received disclose facts or considerations which indicate that the amended settlement is inappropriate, improper, or inadequate.

ADDRESSES: Copies of the settlement are available from the Agency by contacting Ms. Paula V. Painter, Environmental Protection Specialist using the contact information provided in this notice. Comments may also be submitted by referencing the Site's name through one of the following methods:

• Internet: www.epa.gov/region4/superfund/programs/enforcement/enforcement.html.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at (404) 562-8887.

Dated: June 9, 2015.
Anita L. Davis,
Chief, Enforcement and Community Engagement Branch, Superfund Division.

[FR Doc. 2015-18727 Filed 7-29-15; 8:45 am]

BILLING CODE 6560-50-P